NUCLEAR REGULATORY COMMISSION

[Docket No. 40-8907; NRC-2019-0026]

United Nuclear Corporation Church Rock Project

AGENCY: Nuclear Regulatory Commission.

ACTION: Draft environmental impact statement; request for comment and public comment meetings.

SUMMARY: The U.S. Nuclear Regulatory Commission (NRC) is issuing for public comment a draft Environmental Impact Statement (EIS) for United Nuclear Corporation (UNC) license amendment request. UNC is requesting authorization to amend its license (SUA-1475) to excavate approximately 1 million cubic yards of mine waste from the Northeast Church Rock Mine Site and dispose of it at the existing mill site in McKinley County, New Mexico.

DATES: The NRC staff will hold two public meeting through online webinars on the draft EIS at 4:00 p.m. (EST) on December 2, 2020 and at 4:00 p.m. (EST) December 9, 2020. The staff will present the preliminary findings and receive public comments during these transcribed public meetings. Members of the public are invited to submit comments by December 28, 2020. Comments received after this date will be considered if it is practical to do so, but the Commission is able to ensure consideration only for comments received before this date.

ADDRESSES: You may submit comments by any of the following methods; however, the NRC encourages electronic comment submission through the Federal Rulemaking website:

• Federal Rulemaking Website: Go to https://www.regulations.gov/ and search for Docket ID NRC-2019-0026. Address questions about Docket IDs to Jennifer Borges; telephone: 301-287-9127; email: Jennifer.Borges@nrc.gov. For technical questions, contact the individual listed in the FOR FURTHER INFORMATION CONTACT section of this document.

• Mail comments to: Office of Administration, Mail Stop: TWFN-7-A60M, ATTN: Program Management, Announcements and Editing Staff, U.S. Nuclear Regulatory Commission, Washington, DC 20555-0001.

• Email comments to: UNC-ChurchRockEIS.resource@nrc.gov.

• Leave comments by voicemail at: 888-672-3425.

For additional direction on obtaining information and submitting comments, see “Obtaining Information and Submitting Comments” in the SUPPLEMENTARY INFORMATION section of this document.

FOR FURTHER INFORMATION CONTACT: Ashley Waldron, Office of Nuclear Material Safety and Safeguards, U.S. Nuclear Regulatory Commission, Washington, DC 20555-0001; telephone: 301-415-7317; email: Ashley.Waldron@nrc.gov.

SUPPLEMENTARY INFORMATION:

I. Obtaining Information and Submitting Comments

A. Obtaining Information

Please refer to Docket ID NRC-2019-0026 when contacting the NRC about the availability of information regarding this document. You may obtain publicly available information related to this action by the following methods:

• Federal Rulemaking Website: Go to https://www.regulations.gov and search for Docket ID NRC-2019-0026.

• NRC's Agencywide Documents Access and Management System (ADAMS): You may obtain publicly available documents online in the ADAMS Public Documents collection at https://www.nrc.gov/reading-rm/adams.html. To begin the search, select “Begin Web-based ADAMS Search.” The draft EIS can be found by searching for ADAMS Accession No. ML20289A621. For problems with ADAMS, please contact the NRC's Public Document Room (PDR) reference staff at 1-800-397-4209, 301-415-4737, or by email to pdr.resource@nrc.gov.

• Attention: The PDR, where you may examine and order copies of public documents is currently closed. You may submit your request to the PDR via email at PDR.Resource@nrc.gov or call 1-800-397-4209 between 8:00 a.m. and 4:00 p.m. (EST), Monday through Friday, except Federal holidays.

• Project Website: Information related to the UNC Church Rock project can be accessed on the NRC's project website at: https://www.nrc.gov/info-finder/decommissioning/uranium/united-nuclear-corporation-unc-.html.

• Public Library: A copy of the draft EIS can be accessed at the Octavia Fellin Public Library, 110 West Aztec Avenue, Gallup, NM 87301

B. Submitting Comments

The NRC encourages electronic comment submission through the Federal Rulemaking website (https://www.regulations.gov). Please include Docket ID NRC-2019-0026 in your comment submission. Written comments may be submitted during the draft EIS comment period as described in the ADDRESSES section of the document.

The NRC cautions you not to include identifying or contact information that you do not want to be publicly disclosed in your comment submission. The NRC posts all comment submissions at https://www.regulations.gov and enters all comment submissions into ADAMS. The NRC does not routinely edit comment submissions to remove identifying or contact information.

If you are requesting or aggregating comments from other persons for submission to the NRC, then you should inform those persons not to include identifying or contact information that they do not want to be publicly disclosed in their comment submission because the NRC does not routinely edit comment submissions before making the comment submissions available to the public or entering the comment submissions into ADAMS.

II. Meeting Information

The NRC is announcing that staff will hold two public meetings as online webinars to receive comments on the draft EIS. A court reporter will record and transcribe all comments received during the webinar and the transcript of the meeting will be made publicly available. The dates and times for the public webinars are as follow:

Meeting | Date | Time | Location
Public Webinar | December 2, 2020 | 4:00 p.m.-7:00 p.m. (EST) | Webinar Information: https://usnrc.webex.com. Event number: 199 946 2983. Telephone bridge line: 888-454-7496. Participant passcode: 7838183.
Public Webinar | December 9, 2020 | 4:00 p.m.-7:00 p.m. (EST) | Webinar Information: https://usnrc.webex.com. Event number: 199 047 2797. Telephone bridge line: 888-454-7496. Participant passcode: 7838183.

Persons interested in attending these meetings should monitor the NRC's Public Meeting Schedule website at https://www.nrc.gov/pmns/mtg for additional information, agendas for the meetings, and access information for the webinar and telephone bridge line.

III. Discussion

The NRC is issuing for public comment the draft EIS for the proposed United Nuclear Corporation (UNC) license amendment to excavate approximately 1 million cubic yards of mine waste from the Northeast Church Rock Mine Site and dispose of it at the existing mill site in McKinley County, New Mexico.

The draft EIS for UNC's license amendment application includes the NRC's preliminary analysis that evaluates the environmental impacts of the proposed action and alternatives to the proposed action. After comparing the impacts of the proposed action to the No-Action alternative, the NRC staff, in accordance with the requirements in part 51 of title 10 of the Code of Federal Regulations, preliminarily recommends that the NRC proceed with the proposed action, which would be to authorize UNC to transfer and dispose of the Northeast Church Rock (NECR) mine waste on top of the UNC tailings impoundment. This recommendation is based on (i) the license application request, which includes the Environmental Report (ER) and supplemental documents and the licensee's responses to the NRC staff's requests for additional information; (ii) consultation with Federal, State, Tribal, and local agencies and input from other stakeholders; and (iii) independent NRC staff review as documented in the assessments summarized in this EIS.

Dated: November 6, 2020.
For the Nuclear Regulatory Commission.
Jessie M. Quintero,
Chief, Environmental Review Materials Branch, Division of Rulemaking, Environmental, and Financial Support, Office of Nuclear Material Safety and Safeguards.

[FR Doc. 2020-25048 Filed 11-12-20; 8:45 am]

BILLING CODE 7590-01-P